OFFICE OF SCIENCE AND TECHNOLOGY POLICY

Performance Review Board Membership

AGENCY: Office of Science and Technology Policy.

ACTION: Notice.

SUMMARY: The Office of Science and Technology Policy publishes the names of the members selected to serve on its SES Performance Review Board (PRB).

DATES: Membership is effective on the date of this notice to January 2024.

FOR FURTHER INFORMATION CONTACT: Ms. Stacy L. Murphy, Operations Manager, Office of Science and Technology Policy, 1650 Pennsylvania Ave. NW, Washington, DC 20504. Telephone 202-456-6123.

SUPPLEMENTARY INFORMATION: Section 4314(c) of Title 5, U.S.C. requires each agency to establish, in accordance with regulations prescribed by the Office of Personnel Management, one or more PRBs. The purpose of this PRB is to review and make recommendations concerning proposed performance appraisals, ratings, bonuses, pay adjustments, and other appropriate personnel actions for incumbents of the SES positions. The Board shall consist of at least three members and more than half of the members shall consist of career appointees. The names and titles of the PRB members are as follows:

Fred L. Ames, Assistant United States Trade Representative for Administration, United States Trade Representative;

Martha M. Gagne, Assistant Director, Operations, Office of National Drug Council Policy;

Michele C. Marx, Deputy Assistant Director, Office of Performance and Budget, Office of National Drug Council Policy;

Barbara A. Menard, Branch Chief, Health, Education, VA, and Social Programs (HEVS) Branch, Office of Management and Budget.

Applicable Date: Membership is effective on the date of this notice.

Stacy Murphy,
Operations Manager.

[FR Doc. 2022-00802 Filed 1-14-22; 8:45 am]

BILLING CODE 3270-F9-P